DEPARTMENT OF LABOR

Employment and Training Administration

[NAFTA-6509]

Dana Corporation, Perfect Circle Division, Hastings, Nebraska; Amended Certification Regarding Eligibility to Apply for NAFTA-Transitional Adjustment Assistance

In accordance with section 250(a), Subchapter D, Chapter 2, Title II, of the Trade Act of 1974, as amended (19 U.S.C. 2273), the Department of Labor issued a Certification of Eligibility to Apply for NAFTA Transitional Adjustment Assistance on October 30, 2002, applicable to workers of Dana Corporation, Perfect Circle Division, located in Hastings, Nebraska. The notice was published in the Federal Register on November 22, 2002 (67 FR 76402).

At the request of the State agency, the Department reviewed the certification for workers of the subject firm. The certification issued for the worker group at Dana Corporation, Perfect Circle Division, Hastings, Nebraska, was limited to workers engaged in the manufacture of piston rings. The company has reported that workers at the division are not separately identifiable by product.

The intent of the Department's certification is to include all workers of the firm adversely affected by the shift in production from Hastings, Nebraska to Mexico. Accordingly, the Department is amending the certification to expand worker group coverage to all workers of the Perfect Circle Division of Dana Corporation in Hastings, Nebraska.

The amended notice applicable to NAFTA-6509 is hereby issued as follows:

“All workers of Dana Corporation, Perfect Circle Division, Hastings, Nebraska, who became totally or partially separated from employment on or after August 23, 2001, through October 30, 2004, are eligible to apply for NAFTA-TAA under section 250 of the Trade Act of 1974.”

Signed in Washington, DC this 26th day of November 2002.
Elliott S. Kushner,
Certifying Officer, Division of Trade Adjustment Assistance.

[FR Doc. 02-31066 Filed 12-6-02; 8:45 am]

BILLING CODE 4510-30-P